DEPARTMENT OF TRANSPORTATION

Maritime Administration

[Docket No. MARAD-2000-8292]

Sea Princess Trading, Inc. and the Sabine Transportation Company; Notice of Petition for a Declaratory Order

AGENCY: Maritime Administration, Transportation.

ACTION: Notice of petition.

SUMMARY: The Maritime Administration is seeking public comment on the subject petition. Pursuant to 46 CFR 201.74, Sea Princess Trading, Inc. (Trading), the owner, and the Sabine Transportation Company (Sabine), the operator, by petition dated November 7, 2000, request a ruling that the SEA PRINCESS, a 37,500 DWT oil tanker, would if converted to a dry bulk carrier in a foreign shipyard be qualified to lift cargo reserved to privately owned United States-flag commercial vessels by section 901(b)(1) and 901b et seq., of the Merchant Marine Act, 1936, as amended (Act); provided the United States Coast Guard ruled that the vessel so converted qualified for a coastwise endorsement to its document of registration pursuant to 46 App. U.S.C. 883 and 46 U.S.C. 12106.

DATES: You should submit your comments early enough to ensure that Docket Management receives them not later than close of business (5 p.m. EST) December 1, 2000.

ADDRESSES: Your comments should refer to docket number MARAD-2000-8292. You may submit your comments in writing to: Docket Clerk, U.S. DOT Dockets, Room PL-401, 400 7th St., SW, Washington, DC 20590. You may also submit them electronically via the internet at

http://dmses.dot.gov/submit/. You may call Docket Management at (202) 366-9324 and visit the Docket Room from 10 a.m. to 5 p.m., EST., Monday through Friday, except Federal Holidays. An electronic version of this document is available on the World Wide Web at http://dms.dot.gov.

FOR FURTHER INFORMATION CONTACT: You may call Frances M. Olsen, Acting Director, Office of Cargo Preference, (202) 366-4610. You may send mail to Frances M. Olsen, Acting Director, Office of Cargo Preference, Room 8118, Maritime Administration, 400 Seventh St., S.W., Washington, DC 20590.

SUPPLEMENTARY INFORMATION:

Comments

How Do I Prepare and Submit Comments?

Your comments must be written and in English. To ensure that your comments are correctly filed in the Docket, please include the docket number of this document in your comments. We encourage you to write your primary comments in a concise fashion. However, you may attach necessary additional documents to your comments. There is no limit on the length of the attachments. Please submit two copies of your comments, including the attachments, to Docket Management at the address given above under ADDRESSES.

If you wish Docket Management to notify you upon its receipt of your comments, enclose a self addressed, stamped postcard in the envelope containing your comments. Docket Management will return the postcard by mail.

How Do I Submit Confidential Business Information?

If you wish to submit any information under a claim of confidentiality, you should submit three copies of your complete submission, including the information you claim to be confidential business information, to the Chief Counsel, Maritime Administration, at the address given above under FOR FURTHER INFORMATION CONTACT. You should mark “CONFIDENTIAL” on each page of the original document that you would like to keep confidential. In addition, you should submit two copies, from which you have deleted the claimed confidential business information, to Docket Management at the address given above under ADDRESSES. When you send comments containing information claimed to be confidential business information, you should include a cover letter setting forth with specificity the basis for any such claim.

Will the Agency Consider Late Comments?

We will consider all comments that Docket Management receives before the close of business on the comment closing date indicated above under DATES. To the extent possible, we will also consider comments that Docket Management receives after that date.

How Can I Read the Comments Submitted by Other People?

You may read the Petition and the comments received by Docket Management at the address given above under ADDRESSES. The hours of the Docket Room are indicated above in the same location. You may also see the comments on the Internet. To read the comments on the Internet, take the following steps: Go to the Docket Management System (DMS) Web page of the Department of Transportation (http://dms.dot.gov/). On that page, click on “search.” On the next page (http://dms.dot.gov/search/), type in the four digit docket number shown at the beginning of this document. The docket number for this document is MARAD-2000-8292. After typing the docket number, click on “search.” On the next page, which contains docket summary information for the docket you selected, click on the desired comments. You may download the comments.

Petition Request

Pursuant to 46 CFR 201.74, Sea Princess Trading, Inc. (Trading), the owner, and the Sabine Transportation Company (Sabine), the operator, by petition dated November 7, 2000, request a ruling that the SEA PRINCESS, a 37,500 DWT oil tanker, would if converted to a dry bulk carrier in a foreign shipyard be qualified to lift cargo reserved to privately owned United States-flag commercial vessels by section 901(b)(1) and 901b et seq., of the Merchant Marine Act, 1936, as amended (Act); provided the United States Coast Guard ruled that the vessel so converted qualified for a coast wise endorsement to its document of registration pursuant to 46 App. U.S.C. 883 and 46 U.S.C. 12106.

On April 15, 1994, the Maritime Administrator rendered an opinion that the tanker GOLDEN MONARCH when converted to a bulk carrier in Korea would not be eligible to lift preference cargo, although the Coast Guard had ruled that the MONARCH was eligible for a coastwise endorsement. Aquarius Marine Company Docket No. A-185. MARAD's decision was upheld by the United Stastaes Court of Appeals for the Second Circuit in Aquarius v. Pena, 64 F.3d 89 (2nd cir. 1985).

Trading and Sabine ask the Maritime Administration to essentially reverse its decision in the GOLDEN MONARCH case.

This notice is published as a matter of discretion, and the fact of its publication should in no way be considered a favorable or unfavorable decision on the application, as filed, or as may be amended. MARAD will consider all comments submitted in a timely fashion, and will take such action as may be deemed appropriate.

By Order of the Maritime Administrator.
Dated: November 14, 2000.
Joel C. Richard,
Secretary, Maritime Administration.

[FR Doc. 00-29514 Filed 11-16-00; 8:45 am]

BILLING CODE 4910-81-P